DEPARTMENT OF HOMELAND SECURITY

[Docket No. DHS-2012-0016]

President's National Security Telecommunications Advisory Committee

AGENCY: National Protection and Programs Directorate, DHS.

ACTION: Committee Management; Notice of Partially Closed Federal Advisory Committee Meeting.

SUMMARY: The President's National Security Telecommunications Advisory Committee (NSTAC) will meet on Tuesday, May 15, 2012, in Washington DC. The meeting will be partially closed to the public.

DATES: The NSTAC will meet in closed session on Tuesday, May 15, 2012, from 9:45 a.m. to 12 p.m. and in closed session on Tuesday, May 15, 2012, from 1:45 p.m. to 5:10 p.m.

ADDRESSES: The public portion of the meeting will be held at the Ronald Reagan Building and International Trade Center, 1300 Pennsylvania Avenue NW., Atrium Hall, Washington DC. All visitors attending the open sessions must pre-register. Please provide your name, telephone number, and email address by 5 p.m. on Wednesday May 9, 2012, to Helen Jackson at 703-235-4957 or to nstac@dhs.gov. The closed portion of the meeting will be held at the Eisenhower Executive Office Building at 725 17th Street NW., Washington DC.

For information on facilities or services for individuals with disabilities or to request special assistance at the meeting, contact nstac@dhs.gov or Helen Jackson at 703-235-4957 as soon as possible.

We are inviting public comment on the issues to be considered by the committee as listed in the “SUPPLEMENTARY INFORMATION” section below. Associated briefing materials that will be discussed at the meeting will be available at www.ncs.gov/nstac for review as of May 4, 2012. Comments must be submitted in writing no later than May 11, 2012, and must be identified by DHS-2012-0016 and may be submitted by one of the following methods:

• Federal eRulemaking Portal: http://www.regulations.gov. Follow the instructions for submitting comments.

• Email: nstac@dhs.gov. Include the docket number in the subject line of the message.

• Fax: 703-235-4941, Attn: Helen Jackson.

• Mail: Deputy Manager, National Communications System, National Protection and Programs Directorate, Department of Homeland Security, 245 Murray Lane, Mail Stop 0615, Arlington, VA 20598-0615.

Instructions: All submissions received must include the words “Department of Homeland Security” and the docket number for this action. Comments received will be posted without alteration at http://www.regulations.gov, including any personal information provided.

Docket: For access to the docket to read background documents or comments received by the NSTAC, go to http://www.regulations.gov.

A public comment period will be held during the open portion of the meeting on Tuesday, May 15, 2012, from 3:25 p.m. to 3:55 p.m., and speakers are requested to limit their comments to 3 minutes. Speakers will be accommodated in order of registration. Please note that the public comment period may end before the time indicated, following the last call for comments. Contact Helen Jackson at 703-235-4957 to register as a speaker.

FOR FURTHER INFORMATION CONTACT: Allen F. Woodhouse, NSTAC Alternate Designated Federal Officer, Department of Homeland Security, telephone (703) 235-4214.

SUPPLEMENTARY INFORMATION: Notice of this meeting is given under the Federal Advisory Committee Act, 5 U.S.C. App. (Pub. L. 92-463). The NSTAC advises the President on matters related to national security and emergency preparedness telecommunications policy.

Agenda: The committee will meet in open session to receive a briefing on the Federal Government's current technology priorities, including initiatives to further implement the 25Point Implementation Plan to reform Federal Information Technology Management, such as progress made towards implementing the Government's Cloud First Policy. Additionally, the NSTAC will receive a briefing on the Department of Commerce's current initiatives with respect to the National Public Safety Broadband Network. The NSTAC Members will then deliberate and vote on their Report to the President on Cloud Computing. The members will also discuss and vote on the National Public Safety Broadband Network Subcommittee's Scoping Recommendations Report. Lastly, the NSTAC will hear from the Executive Office of the President regarding potential new taskings for future examination and receive feedback regarding NSTAC open recommendations. Both reports to be deliberated and discussed will be available for review at www.ncs.gov/nstac as of May 4, 2012.

The committee will meet in a closed session to hear a classified briefing regarding supply chain threats and activities. Additionally, the members will discuss with senior government officials incentives for public-private collaboration and the adoption of interoperable, standards-based products for enterprise-level cybersecurity.

Basis for Closure: In accordance with the Government in the Sunshine Act, 5 U.S.C. 552b(c), two meeting agenda items are determined to require closure as the disclosure of the information would not be in the public interest.

The first of these agenda items relates to issues and concerns surrounding the threats and risks posed by supply chain management within the telecommunications sector. The briefing provided will discuss threats and vulnerabilities in addressing all aspects of the telecommunications supply chain. In examining these risks, the NSTAC will address sector vulnerabilities and how the Government can best plan to mitigate these vulnerabilities without impeding commerce. Disclosure of these vulnerabilities would provide a road map to criminals who wish to increase threats to the telecommunication sector's supply chain system and exacerbate or exploit vulnerabilities that Government and the private sector are currently working to reduce. Therefore, this portion of the meeting is required to be closed pursuant to 5 U.S.C. 552b(c)(1)(A)(B) and(9)(B).

The second agenda item will address cybersecurity public-private collaboration and adoption of interoperable standards-based products for enterprise-level cybersecurity. Government officials will share data with NSTAC members on initiatives, assessments, and future policy requirements for cybersecurity across public and private networks. The data to be shared includes information on cyber risk assessments, identified network vulnerabilities and potential plans to address those vulnerabilities and is not public information. Disclosure of this information to the public would provide criminals with the means to exploit cyber and physical weaknesses that might inhibit response, recovery, and reconstitution from a degraded network. Additionally, disclosure of this information may provide incentive to increase attacks on networks in areas deemed to be vulnerable. Since this would undermine the ability of the United States to continue ongoing work with private sector partners to mitigate network vulnerabilities and obtain advice from NSTAC, this portion of the meeting is required to be closed pursuant to 5 U.S.C. 552b(c)(9)(B).

In accordance with 5 U.S.C. 552b(c)(9)(B) and 552b(c)(1)(A)(B), these portions of this meeting will be closed to the public.

Dated: April 19, 2012.
Allen F. Woodhouse,
Alternate Designated Federal Officer for the NSTAC.

[FR Doc. 2012-9979 Filed 4-24-12; 8:45 am]

BILLING CODE 9110-9P-P